ENVIRONMENTAL PROTECTION AGENCY

[FRL-7163-8]

Annual Conference on Analysis of Pollutants in the Environment

AGENCY: Environmental Protection Agency (EPA).

ACTION: Announcement of conference.

SUMMARY: The Office of Science and Technology and Battelle, co-sponsors, will hold the “25th Annual Conference on Analysis of Pollutants in the Environment” to discuss all aspects of environmental measurement. The conference is open to the public.

DATES: The annual conference will be held on May 7-9, 2002. On May 7, 2002, the conference will begin at 8:45 a.m. and adjourn at 5 p.m. A workshop on “Surviving a Laboratory Audit” will be presented from 1:30 p.m. to 5 p.m.

On May 8, 2002, the conference will begin at 8:45 a.m. and adjourn at 4:15 p.m. On May 9, 2002, the conference will begin at 8:30 a.m. and adjourn at 12 p.m.

ADDRESSES: The conference will be held at the Sheraton Norfolk Waterside Hotel, 777 Waterside Drive, Norfolk, Virginia, 23510.

FOR FURTHER INFORMATION CONTACT: Conference and workshop arrangements are being conducted by Battelle. For information on registration, hotel rates, transportation, social events, and reservations call Andrea Grew, Battelle, at (781) 952-5290 or by facsimile at (781) 934-2124.

If you need special accommodations at this meeting, including wheelchair access, you should contact Andrea Grew, Battelle, at least five business days prior to the meeting so that we can make appropriate arrangements. If you have technical questions regarding the conference or workshop programs, please contact Marion Kelly, e-mail: kelly.marion@epa.gov, (202) 566-1045 or by facsimile at (202) 566-1053.

SUPPLEMENTARY INFORMATION: The “25th Annual Conference on Analysis of Pollutants in the Environment” is designed to bring together representatives of regulated industries, commercial environmental laboratories, State and Federal regulators, municipal water and wastewater laboratories, and environmental consultants and contractors to discuss all aspects of environmental measurement with a particular focus on environmental water regulations, compliance monitoring, and related issues.

The draft program agenda for the conference follows:

Tuesday, May 7, 2002

Welcome and Status of Office of Water Activities

8:45 a.m. Welcome—Robert G. Beimer, Battelle

9:00 a.m. Opening Remarks—William Telliard, U.S. EPA Office of Science & Technology, Engineering and Analysis Division

9:15 a.m. Office of Water Activities—James Hanlon, Acting Deputy Assistant Administrator, U.S. EPA Office of Water, Field Techniques

9:45 a.m. Comparison of Field Collection Techniques and Filtration Procedures for Determination of Chlorophyll in Ambient Waters—R.E. Stewart, D.H. Smith, and T.Y. Du, Virginia Department of Environmental Quality

10:15 a.m. Break

Bacteriological Tracking

10:30 a.m. Microbial Source Tracking: Principles and Practice—Mansour Samadpour, University of Washington

11:00 a.m. Source Tracking of Bacteria: A Case Study—Ward Staubitz, U.S. Geological Survey Site Investigation

11:30 a.m. The Destruction of the World Trade Center and PCBs, PBDEs, PCDD/Fs, PBDD/Fs, and Chlorinated Biphenylenes in Water, Sediment, and Sewage Sludge—Simon Litten, New York State Department of Environmental Conservation; D. McChesney, U.S. EPA Region II; and Brian Fowler and M.C. Hamilton, Axys Analytical Services

12:00 Noon—Lunch

Workshop

1:30 p.m.—5:00 p.m. Surviving a Laboratory Audit—U.S. EPA Staff: Nancy Wentworth, Office of Research and Development, Quality Assurance Division; Joseph Slayton, U.S. EPA Region III, Environmental Science Center; U.S. EPA Drinking Water Representative; Steve Baker, State of Arizona

5:00 p.m. Adjourn

Wednesday, May 8, 2002

Organics Analysis

8:45 a.m. Determination of the Congener Distribution in Aroclors to the Sub-ppm Level—Coreen Hamilton, Katherine Kaye, and Brian Fowler, Axys Analytical Services

9:15 a.m. Application of Aroclor Toxicity Equivalents to Historic Aroclor Data and to Non-detects—Andy Beliveau, U.S. EPA Region I

9:45 a.m. Navigating EPA's Alternate Test Procedure for Development of an Alternate Chlorophenolics Procedure: Process and Results—Diana Cook, Glenn Wilson, and Michelle Wrabel, National Council for Air and Stream Improvement

10:00 a.m. Break

10:15 a.m. Polybrominated diphenyl ethers: An Emerging Environmental Problem—Mehran Alaee, Canadian Center for Inland Waters

10:45 a.m. Polybrominated diphenyl ethers by Gas Chromatography with an Electron Capture Detector—Robert Rieck, U.S. EPA Region X, Manchester Laboratory

11:15 a.m. Polybrominated diphenyl ethers by HRGC/HRMS—Coreen Hamilton, Brian Fowler, and Louis Haviland, Axys Analytical Services

11:45 a.m. Lunch

Sample Preservation and Holding Times

1:00 p.m. Study Supporting Extension of the Unpreserved Mercury Holding Time to 28 Days— Mark Bruce, Scott Irwin, and Patrick O'Meara, Severn Trent Laboratory, Canton, Ohio

1:30 p.m. Effect of Freezing on Concentrations of Classical Pollutants—Khouane Ditthavong, U.S. EPA Office of Science & Technology, Engineering and Analysis Division

2:00 p.m. Effect of Starting Temperature, Ice Placement, and Other Variables on Length of Time that Samples Remain Below 4 °C in a Picnic Cooler—William Telliard, U.S. EPA Office of Science & Technology, Engineering and Analysis Division

2:30 p.m. Break

Metals Analysis

2:45 p.m. Determination of Arsenic Species in Fish and Their Impact on Fish Advisories— Eric Crecelius, Margaret O'Neill, and Tim Fortman, Battelle Marine Sciences Laboratory

3:15 p.m. Results of the Interlaboratory Validation of EPA Method 245.7: Mercury in Water by Cold-vapor Atomic Fluorescence—Maria Gomez-Taylor, U.S. EPA Office of Science & Technology, Engineering and Analysis Division

Bioassay

3:45 p.m. Comparison of Results of Determination of Dioxin-like Toxicity by Cell-line Bioassays and HRGC/HRMS—Harry McCarty, DynCorp Information & Enterprise Technology, Inc.

4:15 p.m. Adjourn

5:30 p.m. Conference Reception

Thursday, May 9, 2002

Whole Effluent Toxicity

8:30 a.m. Grading on a Curve: How to Use Laboratory Control Charts and Other QA/QC Data to Interpret Toxicity Test Results—Tim Moore, Risk Sciences; and Jim Pletl, Hampton Roads Sanitation District

Microbiological Methods

9:00 a.m. Interlaboratory Validation of EPA Method 1605 for Aeromonas in Water—Misty Pope, Ken Miller, Kevin Connell, Jessica Pulz, Chris Maynard, Ben Meadows, and Kyle May, DynCorp Information & Enterprise Technology, Inc.; and Mary Ann Feige, U.S. EPA Office of Ground Water and Drinking Water Technical Support Center, Cincinnati

9:30 a.m. Are Current Microbiological Method Holding Times Meaningful? An Assessment of the Stability of Multiple Pathogens in Wastewater at Multiple Times and Temperatures—Robin Oshiro, U.S. EPA Office of Science and Technology, Engineering and Analysis Division; and Misty Pope, Kevin Connell, Jessica Pulz, Ken Miller, and Yildiz Chambers, DynCorp Information & Enterprise Technology, Inc.

10:00 a.m. Break

10:15 a.m. Special Session: Demonstration of E. coli and Enterococci Methods Proposed by EPA for Use in Recreational Water Monitoring—Robin Oshiro, U.S. EPA Office of Science and Technology, Engineering and Analysis Division

12:00 Noon—Adjourn

Dated: March 19, 2002.
Geoffrey H. Grubbs,
Director, Office of Science and Technology.

[FR Doc. 02-7225 Filed 3-25-02; 8:45 am]

BILLING CODE 6560-50-P